DEPARTMENT OF COMMERCE

International Trade Administration

[A-570-831]

Fresh Garlic From the People's Republic of China: Rescission of Antidumping Duty New Shipper Review

AGENCY: Import Administration, International Trade Administration, Department of Commerce.

ACTION: Notice of rescission of the antidumping duty new shipper review of fresh garlic from the People's Republic of China.

SUMMARY: In response to a request from Tancheng County Dexing Foods Co., Ltd., the Department of Commerce initiated a new shipper review of the antidumping duty order on fresh garlic from the People's Republic of China. The period of review is November 1, 2002, through April 30, 2003. For the reasons discussed below, we are rescinding this new shipper review.

EFFECTIVE DATES: April 28, 2004.

FOR FURTHER INFORMATION CONTACT: Catherine Cartsos or Mark Ross, Office of AD/CVD Enforcement 3, Import Administration, International Trade Administration, U.S. Department of Commerce, 14th Street and Constitution Avenue, NW., Washington, DC 20230; telephone: (202) 482-1757 and (202) 482-4794, respectively.

SUPPLEMENTARY INFORMATION:

Scope of the Order

The products covered by this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) Garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (HTSUS). Although the HTSUS subheadings are provided for convenience and customs purposes, our written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to the U.S. Customs and Border Protection (CBP) to that effect.

Background

On July 7, 2003, the Department of Commerce (the Department) published in the Federal Register the Notice of Initiation of New Shipper Antidumping Duty Reviews: Fresh Garlic From the People's Republic of China (68 FR 40242). On July 15, 2003, the Department issued an antidumping questionnaire to Tancheng County Dexing Foods Co., Ltd. (Tancheng Dexing). On December 16, 2003, the Department issued a supplemental questionnaire to Tancheng Dexing.

On August 28, 2003, and January 20, 2004, the Department received responses to sections A, C, and D of the Department's original questionnaire and supplemental questionnaire, respectively, from Tancheng Dexing.

On March 10, 2004, Tancheng Dexing withdrew its request for a review.

Rescission of New Shipper Review

We are rescinding the new shipper review with respect to Tancheng Dexing. On March 10, 2004, Tancheng Dexing withdrew its request for a review. Although Tancheng Dexing withdrew its request after the 60-day deadline, we found it reasonable to extend the deadline because we had not committed significant resources yet to the new shipper review of Tancheng Dexing. See Fresh Garlic from the People's Republic of China: Partial Rescission of Antidumping Duty Administrative Review, 68 FR 46580 (August 6, 2003). Specifically, we had not started calculating a margin for Tancheng Dexing and we had not yet verified Tancheng Dexing's data. Further, Tancheng Dexing was the only party to request the review. In a March 19, 2004, letter to Tancheng Dexing, we expressed our intent to extend the deadline for the withdrawal of the request of the review and rescind the new shipper review subsequently. We did not receive any submissions opposing the withdrawal of the request for the review or our intent to rescind. For these reasons, we have accepted Tancheng Dexing's withdrawal and are rescinding the new shipper review of the antidumping duty order on fresh garlic from the People's Republic of China (PRC) with respect to Tancheng Dexing in accordance with 19 CFR 351.214(f)(1).

Cash Deposits

Bonding is no longer permitted to fulfill security requirements for shipments from Tancheng Dexing of fresh garlic from the PRC entered, or withdrawn from warehouse, for consumption in the United States on or after the publication of this notice of rescission of antidumping duty new shipper review in the Federal Register. Further, effective upon publication of this notice for all shipments of the subject merchandise exported by Tancheng Dexing and entered, or withdrawn from warehouse, for consumption, the cash-deposit rate will be the PRC-countrywide rate, which is 376.67 percent.

Assessment of Antidumping Duties

The Department shall instruct CBP to assess antidumping duties on all appropriate entries. Since we are rescinding this antidumping duty new shipper review, the PRC-wide rate of 367.67 percent in effect at the time of entry applies to all exports of fresh garlic from the PRC produced and exported by Tancheng Dexing during the period of review. The Department will issue appropriate assessment instructions directly to CBP within 15 days of publication of this notice of rescission of antidumping duty new shipper review.

Notification to Interested Parties

This notice serves as a reminder to importers of their responsibility under 19 CFR 352.402(f) to file a certificate regarding the reimbursement of antidumping duties prior to liquidation of the relevant entries during this review period. Failure to comply with this requirement could result in the Secretary's presumption that reimbursement of antidumping duties occurred and subsequent assessment of double antidumping duties.

This notice is published in accordance with section 751(B) of the Tariff Act of 1930, as amended, and 19 CFR 351(f)(3).

Dated: April 20, 2004.
Jeffrey May,
Deputy Assistant Secretary for Import Administration.

[FR Doc. 04-9642 Filed 4-27-04; 8:45 am]

BILLING CODE 3510-DS-M